DEPARTMENT OF TRANSPORTATION

Federal Aviation Administration

Agency Information Collection Activity Under OMB Review, Request for Comments; Renewal of an Approved Information Collection Activity, Aviation Medical Examiner Program

AGENCY: Federal Aviation Administration (FAA), DOT.

ACTION: Notice and request for comments.

SUMMARY: The FAA invites public comments about our intention to request the Office of Management and Budget's (OMB) renewal of a current information collection. The Federal Register Notices with a 60-day comment period soliciting comments on the following collection of information was published on July 27, 2005, vol. 70, #143, pages 43502-43503. This collection of information is necessary in order to determine applicants' professional and personal qualifications for certification as an Aviation Medical Examiner (AME). The information is used to develop the AME directories used by airmen who must undergo periodic examinations by AMEs.

DATES: Please submit comments by December 12, 2005.

FOR FURTHER INFORMATION CONTACT: Judy Street on (202) 267-9895.

SUPPLEMENTARY INFORMATION:

Federal Aviation Administration (FAA)

Title: Aviation Medical Examiner Designation Program.

Type of Request: Renewal of an approved collection.

OMB Control Number: 2120-0604.

Forms(s): None.

Affected Public: A total of 450 Aviation Medical Examiners.

Frequency: The information is conducted on an as-needed basis.

Estimated Average Burden Per Response: Approximately 0.5 hours per response.

Estimated Annual Burden Hours: An estimated 225 hours annually.

Abstract: This collection of information is necessary in order to determine applicants' professional and personal qualifications for certification as an Aviation Medical Examiner. The information is used to develop the AME directories used by airmen who must undergo periodic examinations by AMEs.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on November 4, 2005.
Judith D. Street,
FAA Information Collection Clearance Officer, Information systems and Technology Services Staff, ABA-20.

[FR Doc. 05-22403 Filed 11-9-05; 8:45 am]

BILLING CODE 4910-13-M